DEPARTMENT OF LABOR

Employment and Training Administration

[TA-W-39,273]

United States Steel, LLC, Fairless Hills, Pennsylvania; Notice of Revised Determination on Reconsideration

On February 11, 2002, the Department issued a Affirmative Determination Regarding Application on Reconsideration applicable to workers and former workers of the subject firm. The notice will soon be published in the Federal Register.

The Department initially denied TAA to workers of United States Steel, LLC, Fairless Hills, Pennsylvania, engaged in the production of tin mill products because the “contributed importantly” group eligibility requirement of section 222(3) of the Trade Act of 1974, as amended, was not met.

On reconsideration, the Department conducted further survey of the major customers of the subject firm regarding their purchases of tin mill products. The survey revealed that major customer significantly increased their imports, while decreasing their purchases from the subject firm during the relevant period.

Conclusion

After careful review of the additional facts obtained on reconsideration, I conclude that increased imports of articles like or directly competitive with tin mill products, contributed importantly to the declines in sales or production and to the total or partial separation of workers of United States Steel, LLC, Fairless Hills, Pennsylvania. In accordance with the provisions of the Act, I make the following certification:

“All workers of United States Steel, LLC, Fairless Hills, Pennsylvania engaged in the production of tin mill products who became totally or partially separated from employment on or after May 4, 2000 are eligible to apply for adjustment assistance under section 223 of the Trade Act of 1974.”

Signed in Washington, DC this 11th day of March 2002.
Edward A. Tomchick,
Director, Division of Trade Adjustment Assistance.

[FR Doc. 02-9337 Filed 4-16-02; 8:45 am]

BILLING CODE 4510-30-M